DEPARTMENT OF EDUCATION

[Docket No.: ED-2020-SCC-0120]

Agency Information Collection Activities; Submission to the Office of Management and Budget for Review and Approval; Comment Request; Annual Progress Reporting Form for the American Indian Vocational Rehabilitation Services Program

AGENCY: Office of Special Education and Rehabilitation Services, Department of Education (ED).

ACTION: Notice.

SUMMARY: In accordance with the Paperwork Reduction Act of 1995, ED is proposing a revision of a currently approved collection.

DATES: Interested persons are invited to submit comments on or before November 23, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact August Martin, 202-245-7410.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Annual Progress Reporting Form for the American Indian Vocational Rehabilitation Services Program.

OMB Control Number: 1820-0655.

Type of Review: A revision to a currently approved collection.

Respondents/Affected Public: State, Local, and Tribal Governments.

Total Estimated Number of Annual Responses: 86.

Total Estimated Number of Annual Burden Hours: 817.

Abstract: The Rehabilitation Services Administration (RSA) of the U.S. Department of Education's (ED) Office of Special Education and Rehabilitative Services (OSERS) will use this data collection form to capture the performance data form grantees funded under the American Indian Vocational Rehabilitation Services (AIVRS) program (CFDA #84.250). RSA and ED will use the information gathered annually to: (a) Comply with reporting requirements under the Education Department General Administrative Regulations (EDGAR) 34 CFR part 75.118, (b) measure performance on the program in accordance with the program indicators identified in the Government Performance Result Act (GPRA), and (c) provide information annually to Congress on activities conducted under this program.

The proposed changes to the existing from will improve user friendliness, clarity of data element questions, and accuracy of data reported. These revisions are not significantly different from the original collection, but are proposed to provide clarity, consistency, and usability. In order to improve the user friendliness of the form, some sections were reorganized to enhance the natural flow of data collection. data element questions were revised to improve clarity of the requests, which will result in accuracy of data being reported.

On additional data element was inserted in order to ensure grantees remain compliant with regulatory requirements, but the additional data element is offset by the elimination and consolidation of other sections in this ICR.

Additionally, ED had revised how it will collect survey data regarding the Training and Technical Needs of AIVRS projects and the entire section of the report is deleted to further reduces burden. The Training an Technical Needs assessment survey not be conducted independent of the ICR.

Dated: October 19, 2020.
Kate Mullan,
PRA Coordinator, Strategic Collections and Clearance Governance and Strategy Division, Office of Chief Data Officer, Office of Planning, Evaluation and Policy Development.

[FR Doc. 2020-23384 Filed 10-21-20; 8:45 am]

BILLING CODE 4000-01-P